COMMITTEE FOR PURCHASE FROM PEOPLE WHO ARE BLIND OR SEVERELY DISABLED

Procurement List; Proposed addition and deletions

AGENCY: Committee for Purchase From People Who Are Blind or Severely Disabled.

ACTION: Proposed addition to and deletions from the Procurement List.

SUMMARY: The Committee is proposing to add a service to the Procurement List that will be furnished by nonprofit agencies employing persons who are blind or have other severe disabilities, and deletes products and services previously furnished by such agencies.

DATES: Comments must be received on or before: April 12, 2020.

ADDRESSES: Committee for Purchase From People Who Are Blind or Severely Disabled, 1401 S. Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed addition, the entities of the Federal Government identified in this notice will be required to procure the service listed below from nonprofit agencies employing persons who are blind or have other severe disabilities.

The following service is proposed for addition to the Procurement List for production by the nonprofit agencies listed:

Service

Service Type: Complete Facilities Management

Mandatory for: U.S. Department of Health & Human Services, Hubert H. Humphrey Building, Washington, DC

Mandatory Source of Supply: Skookum Educational Programs, Bremerton, WA

Contracting Activity: HHS, PROGRAM SUPPORT CENTER ACQ MGMT SVC

Note: The Notice listed above replaces the Notice for Operations and Maintenance Services, U.S. Department of Health & Human Services, Hubert H. Humphrey Building, Washington, DC that originally posted on November 22, 2019, in Document Citation 84 FR 64468, Document Number 2019-25393

Deletions

The following products and services are proposed for deletion from the Procurement List:

Products

NSNs—Product Names:

8940-00-NIB-0094—Soup, Shelf-Stable, Cream of Mushroom, Low Sodium

8940-00-NIB-0095—Soup, Shelf-Stable, Cream of Chicken

Mandatory Source of Supply: Cambridge Industries for the Visually Impaired—Deleted, Somerset, NJ

Contracting Activity: DEPT OF AGRIC/AGRICULTURAL MARKETING SERVICE, WASHINGTON, DC

Services

Service Type: Janitorial/Custodial

Mandatory for: Smithsonian Institution Service Center: 1111 North Carolina Street NE, Washington, DC

Mandatory Source of Supply: Melwood Horticultural Training Center, Inc., Upper Marlboro, MD

Contracting Activity: SMITHSONIAN INSTITUTION

Service Type: Janitorial/Custodial

Mandatory for: Backbay National Wildlife Refuge, Virginia Beach, VA

Mandatory Source of Supply: Community Alternatives, Incorporated, Norfolk, VA

Contracting Activity: OFFICE OF POLICY, MANAGEMENT, AND BUDGET, NBC ACQUISITION SERVICES DIVISION

Service Type: Mailroom Operation

Mandatory for: Internal Revenue Service: 300 North Los Angeles Street, Los Angeles, CA

Mandatory Source of Supply: Elwyn, Aston, PA

Contracting Activity: TREASURY, DEPARTMENT OF THE, DEPT OF TREAS/

Service Type: Janitorial/Custodial

Mandatory for: Paul E. Garber Complex: 3904 Old Silver Hill Road, Suitland, MD

Mandatory Source of Supply: Melwood Horticultural Training Center, Inc., Upper Marlboro, MD

Contracting Activity: GENERAL SERVICES ADMINISTRATION, FPDS AGENCY COORDINATOR

Service Type: Carwash Service

Mandatory for: U.S. Border Patrol: 536 Barbara Worth Road, Calexico, CA

Mandatory for: U.S. Border Patrol: 221 W. Aten Rd., Imperial, CA

Mandatory for: U.S. Border Patrol: 1111 N. Imperial Ave, El Centro, CA

Mandatory Source of Supply: ARC-Imperial Valley, El Centro, CA

Contracting Activity: U.S. CUSTOMS AND BORDER PROTECTION, BORDER ENFORCEMENT CONTRACTING DIVISION

Service Type: Janitorial/Custodial

Mandatory for: U.S. Army Reserve Center: Edison, MG Willian Weigal, Edison, NJ

Contracting Activity: DEPT OF THE ARMY, W6QM MICC CTR-FT DIX (RC)

Service Type: Forms Distribution Service

Mandatory for: Department of Health and Human Services, Agency for Healthcare Research and Quality, Rockville, MD

Mandatory Source of Supply: Melwood Horticultural Training Center, Inc., Upper Marlboro, MD

Contracting Activity: AGENCY FOR HEALTH CARE POLICY AND RESEARCH, PHS AHRQ, HHS, ROCKVILLE, MD

Service Type: Mailroom Operation

Mandatory for: USDA, Rural Development Agency, St. Louis, MO

Mandatory Source of Supply: MGI Services Corporation, St. Louis, MO

Contracting Activity: RURAL HOUSING SERVICE, RURAL DEVELOPMENT

Service Type: Grounds Maintenance

Mandatory for: U.S. Geological Survey: Wildlife Research Center, Patuxent, MD

Mandatory Source of Supply: Melwood Horticultural Training Center, Inc., Upper Marlboro, MD

Contracting Activity: OFFICE OF POLICY, MANAGEMENT, AND BUDGET, NBC ACQUISITION SERVICES DIVISION

Michael R. Jurkowski,
Deputy Director, Business & PL Operations.

[FR Doc. 2020-05201 Filed 3-12-20; 8:45 am]

BILLING CODE 6353-01-P